ENVIROMENTAL PROTECTION AGENCY

[FRL-10020-17-Region 3]

Clean Air Act Operating Permit Program; Petition To Object to the Title V Permit for Northeast Maryland Waste Disposal Authority; Maryland

AGENCY: Environmental Protection Agency (EPA).

ACTION: Notice of final action.

SUMMARY: Pursuant to the Clean Air Act (CAA), the Administrator of the Environmental Protection Agency (EPA) signed an Order, dated December 11, 2020, granting a petition to object to a state operating permit issued by the Maryland Department of the Environment (MDE). The Order responds to a February 4, 2019 petition, relating to the Northeast Maryland Waste Disposal Authority's Montgomery County Resource Recovery Facility (MCRRF), a municipal solid waste resource recovery facility located in Montgomery County, Maryland. The petition was submitted by the Environmental Integrity Project and the Chesapeake Climate Action Network (the Petitioners). This Order constitutes final action on that petition requesting that the Administrator object to the issuance of the proposed CAA title V permit.

DATES: February 12, 2021.

ADDRESSES: Copies of the final Order, the petition, and all pertinent information relating thereto can be requested by electronic mail to the address set forth below in the FOR FURTHER INFORMATION CONTACT section. The final Order is also available electronically at the following website: https://www.epa.gov/title-v-operating-permits/title-v-petition-database.

FOR FURTHER INFORMATION CONTACT: Cynthia Stahl, Permits Branch, Air & Radiation Division, EPA Region III, (215) 814-2180, stahl.cynthia@epa.gov.

SUPPLEMENTARY INFORMATION: The CAA affords EPA a 45-day period to review and object to, as appropriate, title V operating permits proposed by state permitting authorities. Section 505(b)(2) of the CAA authorizes any person to petition the EPA Administrator within 60 days after the expiration of this review period to object to a state title V operating permit if EPA has not done so. Petitions must be based only on objections raised with reasonable specificity during the public comment period, unless the petitioner demonstrates that it was impracticable to raise these issues during the comment period or that the grounds for objection or other issue arose after the comment period.

MDE issued the final MCRRF renewal operating permit (permit no. 24-031-1718) on January 1, 2019. In the MCRRF petition (numbered III-2019-2), the Petitioners sought EPA objection on the basis that the title V permit failed to set forth monitoring requirements that assured continuous compliance with the 1-hour Prevention of Significant Deterioration emission limit for hydrogen chloride. The Order explains the reasons behind EPA's decision to grant the petition for objection.

Dated: February 4, 2021.
Cristina Fernandez,
Air and Radiation Division, US EPA Region III.

[FR Doc. 2021-02835 Filed 2-11-21; 8:45 am]

BILLING CODE 6560-50-P